DEPARTMENT OF AGRICULTURE

Forest Service

Fresno and Madera County Resource Advisory Committees

AGENCY: Forest Service, USDA.

ACTION: Notice of meetings.

SUMMARY: The Fresno and Madera Counties Resource Advisory Committees (RAC) will meet in Clovis, California. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information, including the meeting agenda and the meeting summary/minutes can be found at the following website: https://www.fs.usda.gov/main/sierra/workingtogether/advisorycommittees.

DATES: The meeting will be held on the following dates:

• Tuesday, May 7, 2019, from 6:00 p.m. to 8:00 p.m.,

• Tuesday, May 14, 2019, from 6:00 p.m. to 8:00 p.m.,

• Tuesday, May 21, 2019, from 6:00 p.m. to 8:00 p.m., and

• Tuesday, May 28, 2019, from 6:00 p.m. to 8:00 p.m.

All RAC meetings are subject to cancellation. For updated status of the meetings prior to attendance, please contact the person listed under For Further Information Contact.

ADDRESSES: The meetings will be held at the Sierra National Forest Supervisor's Office, 1600 Tollhouse Road, Clovis, California 93611.

Written comments may be submitted as described under Supplementary Information. All comments, including names and addresses when provided, are placed in the record and are available for public inspection and copying. The public may inspect comments received at the Sierra National Forest Supervisor's Office, 1600 Tollhouse Road, Clovis, California. Please call ahead to facilitate entry into the building.

FOR FURTHER INFORMATION CONTACT: Julie Roberts, RAC Coordinator, by phone at 559-297-0706 or via email at jaroberts@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of these meetings is to:

(1) Review funding,

(2) review proposals, and

(3) possibly vote to recommend proposals.

These meetings are open to the public. The agenda will include time for people to make oral statements of three minutes or less. Individuals wishing to make an oral statement should request in writing by April 23, 2019, to be scheduled on the agenda for the May 7, 2019 meeting; April 30, 2019, to be scheduled on the agenda for the May 14, 2019 meeting; May 7, 2019, to be scheduled on the agenda for the May 21, 2019 meeting; and May 14, 2019, to be scheduled on the agenda for the May 28, 2019 meeting. Anyone who would like to bring related matters to the attention of the committee may file written statements with the committee staff before or after the meeting. Written comments and requests for time for oral comments must be sent to Julie Roberts, RAC Coordinator, Sierra National Forest, 1600 Tollhouse Road, Clovis, California 93611; or by email to jaroberts@usda.gov, or via facsimile to 559-294-4809.

Meeting Accommodations: If you are a person requiring reasonable accommodation, please make requests in advance for sign language interpreting, assistive listening devices or other reasonable accommodation. For access to the facility or proceedings, please contact the person listed in the section titled For Further Information Contact. All reasonable accommodation requests are managed on a case by case basis.

Dated: March 25, 2019.
Allen Rowley,
Acting Associate Deputy Chief, National Forest System.

[FR Doc. 2019-07607 Filed 4-16-19; 8:45 am]

BILLING CODE 3411-15-P